DEPARTMENT OF HEALTH AND HUMAN SERVICES

National Advisory Committee on Seniors and Disasters Public Meeting

AGENCY: Administration for Strategic Preparedness and Response (ASPR), U.S. Department of Health and Human Services (HHS).

ACTION: Notice.

SUMMARY: The National Advisory Committee on Seniors and Disasters (NACSD) will conduct a public meeting on Monday, May 20, 2024 (2:30 p.m.-4:30 p.m. ET). Notice of the meeting is required under Section 10(a)(2) of the Federal Advisory Committee Act (FACA). The NACSD is required by section 2811B of the Public Health Service Act (PHS) Act (42 U.S.C. 300hh-10c), as amended by the Pandemic and All-Hazards Preparedness and Advancing Innovation Act (PAHPAIA), Public Law 116-22, and governed by the provisions of the Federal Advisory Committee Act (FACA). The NACSD provides expert advice and guidance to the U.S. Department of Health and Human Services (HHS) regarding all-hazards public health and medical preparedness, response, and recovery activities related to meeting the unique needs of older adults. ASPR manages and convenes the NACSD on behalf of the Secretary of HHS. The NACSD will discuss and deliberate questions posed by ASPR on climate and health equity.

Procedures for Public Participation: The public and expert stakeholders are invited to observe the meeting either in-person or virtually and pre-registration is required. The pre-registration link and a more detailed agenda will be available on the NACSD website. Anyone may submit questions and comments to the NACSD by email (NACSD@hhs.gov) before the meeting. American Sign Language translation and Communication Access Real-Time Translation will be provided.

We would like to specifically seek input from the public on climate and health equity considerations in disaster training as well as opportunities and strategic priorities for national public health and medical preparedness, response, and recovery specific to the needs of older adults. Representatives from industry, academia, health professions, health care consumer organizations, non-federal government agencies, or community-based organizations may request up to five minutes to speak directly to the Committee. Requests to speak to the Committee will be approved in consultation with the Committee Chair and based on time available during the meeting. Requests to speak to the NACSD during the public meeting must be sent to NACSD@hhs.gov by close of business on May 15, 2024. Please provide the full name, credentials, official position(s), and relevant affiliations for the speaker and a brief description of the intended topic. Presentations that contain material with a commercial bias, advertising, marketing, or solicitations will not be allowed. A meeting summary will be available on the NACSD website post meeting.

FOR FURTHER INFORMATION CONTACT: Dr. Maxine Kellman; NACSD Designated Federal Official, (202) 260-0047; NACSD@HHS.GOV.

The Administrator and Assistant Secretary for Preparedness and Response of ASPR, Dawn O'Connell, having reviewed and approved this document, authorizes Adam DeVore, who is the Federal Register Liaison, to electronically sign this document for purposes of publication in the Federal Register.

Adam DeVore,
Federal Register Liaison, Administration for Strategic Preparedness and Response.

[FR Doc. 2024-09584 Filed 5-1-24; 8:45 am]

BILLING CODE 4150-37-P